DEPARTMENT OF ENERGY

Federal Energy Regulatory Commission

[Docket No. AD19-15-000]

Managing Transmission Line Ratings; Notice of Technical Conference

Take notice that the Federal Energy Regulatory Commission (Commission) will convene a staff-led technical conference in the above-referenced proceeding on Tuesday and Wednesday, September 10-11, 2019 from approximately 8:45 a.m. to 5:00 p.m. Eastern time. The conference will be held in Hearing Room 1 at Commission headquarters, 888 First Street NE, Washington, DC 20426. Commissioners may attend and participate.

The purpose of this conference is to discuss issues related to transmission line ratings, with a focus on dynamic and ambient-adjusted line ratings.¹ In particular, this conference will explore what transmission line rating and related practices might constitute best practices, and what, if any, Commission action in these areas might be appropriate. Further details and a formal agenda will be issued prior to the conference.

¹ For the purposes of this technical conference, the following definitions will be used. “Ambient-adjusted line ratings” are defined as ratings that are adjusted daily, hourly, or more frequently to account for ambient air temperatures. “Dynamic line ratings” are defined as line ratings that are adjusted hourly or more frequently to account for local weather conditions (e.g., ambient temperature, wind, precipitation, solar radiation) and/or conductor parameters (conductor temperature, tension, sag, clearance) based on data collected by local weather and/or line sensors.

The workshop will be open for the public to attend. Advance registration is not required to attend, but is encouraged. Attendees may register at the following web page: http://www.ferc.gov/whats-new/registration/09-10-19-form.asp. In-person attendees should allow time to pass through building security procedures before the start time of the technical conference.

Those wishing to participate as a panel member in this conference should submit a nomination form online by 5:00 p.m. on July 17, 2019 at: http://www.ferc.gov/whats-new/registration/09-10-19-speaker-form.asp. At this web page, please provide an abstract of the issue(s) you propose to address. Due to time constraints, we may not be able to accommodate all those interested in speaking.

The conference will be transcribed and webcast. Transcripts will be available immediately for a fee from Ace Reporting (202-347-3700). A link to the webcast of this event will be available in the Commission Calendar of Events at www.ferc.gov. The Capitol Connection provides technical support for the webcasts and offers the option of listening to the conferences via phone-bridge for a fee. For additional information, visit www.CapitolConnection.org or call (703) 993-3100.

Commission conferences are accessible under section 508 of the Rehabilitation Act of 1973. For accessibility accommodations, please send an email to accessibility@ferc.gov or call toll free 1-866-208-3372 (voice) or 202-208-8659 (TTY), or send a fax to 202-208-2106 with the required accommodations.

For more information about this technical conference, please contact Dillon Kolkmann at Dillon.Kolkmann@ferc.gov or (202) 502-8650. For information related to logistics, please contact Sarah McKinley at Sarah.Mckinley@ferc.gov or (202) 502-8368.

Dated: June 28, 2019.
Kimberly D. Bose,
Secretary.

[FR Doc. 2019-14429 Filed 7-5-19; 8:45 am]

BILLING CODE 6717-01-P